DEPARTMENT OF JUSTICE

Notice of Lodging of Proposed Consent Decree Under the Comprehensive Environmental Response, Compensation, And Liability Act

On September 26, 2023, the Department of Justice lodged a proposed Consent Decree with the United States District Court for the Southern District of Indiana in the lawsuit entitled United States v. CR-Troy, Inc., et al., Case No. 2:23-cv-463.

The proposed Consent Decree settles claims brought by the United States under sections 106 and 107 of the Comprehensive Environmental Response, Compensation, and Liability Act, 42 U.S.C. 9606 and 9607 against four defendants including CR-Troy, Inc. (“CR-Troy,” formerly Consolidated Recycling Company, Inc.), GCSC Enterprises, Inc. (“GCSC”), Machine Tool Service, Inc. (“MTS”), and Valvoline LLC (“Valvoline”) seeking reimbursement of response costs and performance of remedial measures with respect to the Elm Street Groundwater Contamination Site in Terre Haute, Indiana. The Consent Decree requires Defendants to pay the United States a total of $3,650,000 in response costs and perform the remedial “Work” defined in the Scope of Work, attached to the Consent Decree as Appendix B, which consists of soil excavation, groundwater monitoring, and under certain conditions soil vapor extraction to address contamination at the Site.

The publication of this notice opens a period for public comment on the proposed Consent Decrees. Comments should be addressed to the Assistant Attorney General, Environment and Natural Resources Division, and should refer to United States v. CR-Troy, Inc. et al., D.J. Ref. No. 90-11-3-12377. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed Consent Decree may be examined and downloaded at this Justice Department website: https://www.justice.gov/enrd/consent-decrees.

We will provide a paper copy of the proposed Consent Decrees upon written request and payment of reproduction costs. Please mail your request and payment to: Consent Decree Library, U.S. DOJ—ENRD, P.O. Box 7611, Washington, DC 20044-7611.

For a copy of the Consent Decree, please enclose a check or money order for $43 (172 pages at 25 cents per page reproduction cost) payable to the United States Treasury.

Patricia McKenna,
Assistant Section Chief, Environmental Enforcement Section, Environment and Natural Resources Division.

[FR Doc. 2023-21755 Filed 10-2-23; 8:45 am]

BILLING CODE 4410-15-P